DEPARTMENT OF JUSTICE

Antitrust Division

Notice Pursuant to the National Cooperative Research and Production Act of 1993—Multiservice Switching Forum

Notice is hereby given that, on April 13, 2004, pursuant to section (a) of the National Cooperative Research and Production act of 1993, 15 U.S.C. 4301 et seq. (“the Act”), Multiservice Switching Forum (“MSF”) filed written notifications simultaneously with the Attorney General and the Federal Trade Commission disclosing changes in its membership. The notifications were filed for the purpose of extending the Act's provisions limiting the recovery of antitrust plaintiffs to actual damages under specified circumstances. Specifically, Cable & Wireless, Bracknell, UNITED KINGDOM; Ericsson, Rijen, THE NETHERLANDS; and Teledata Networks, Herzliya, ISRAEL, have been added as parties to this venture. Also, Italtel, Settimo Milanese, ITALY; NG Technologies, Richardson, TX; and ZTE Corporation, Guangdong, PEOPLE'S REPUBLIC OF CHINA, have been dropped as parties to this ventures.

Santera Systems, Plano, TX, has changed its name to Tekelec, Austin, TX.

No other changes have been made in either the membership or planned activity of the group research project. Membership in this group research project remains open, and MSF intends to file additional written notifications disclosing all changes in membership.

On January 22, 1999, MSF filed its original notification pursuant to section 6(a) of the Act. The Department of Justice published a notice in the Federal Register pursuant to Section 6(b) of the Act on May 26, 1999 (64 FR 28519).

The last notification was filed with the Department on July 28, 2003. A notice was published in the Federal Register pursuant to section 6(b) of the Act on August 15, 2003 (68 FR 48941).

Dorothy B. Fountain,
Deputy Director of Operations, Antitrust Division.

[FR Doc. 04-13879 Filed 6-18-04; 8:45 am]

BILLING CODE 4410-11-M